ENVIRONMENTAL PROTECTION AGENCY

[FRL-11925-01-R6]

Clean Air Act Operating Permit Program; Petition for Objection to State Operating Permit for Oxbow Calcining LLC, Jefferson County, Texas

AGENCY: Environmental Protection Agency (EPA).

ACTION: Notice of final order on petition.

SUMMARY: The Environmental Protection Agency (EPA) Administrator signed an Order dated April 12, 2024, denying a petition dated August 8, 2023, from the Port Arthur Community Action Network and Environmental Integrity Project (the Petitioners). The petition requested that the EPA object to a Clean Air Act (CAA) title V operating permit issued by the Texas Commission on Environmental Quality (TCEQ) to Oxbow Calcining located in Jefferson County, Texas.

FOR FURTHER INFORMATION CONTACT: Jonathan Ehrhart, EPA Region 6 Office, Air Permits Section, (214) 665-2295, ehrhart.jonathan@epa.gov. The final order and petition are available electronically at: https://www.epa.gov/title-v-operating-permits/title-v-petition-database.

SUPPLEMENTARY INFORMATION: The EPA received a petition from the Port Arthur Community Action Network and Environmental Integrity Project dated August 8, 2023, requesting that the EPA object to the issuance of operating permit no. O1493, issued by TCEQ to Oxbow Calcining in Jefferson County, Texas. On April 12, 2024, the EPA Administrator issued an order denying the petition. The order itself explains the basis for the EPA's decision.

Sections 307(b) and 505(b)(2) of the CAA provide that a petitioner may request judicial review of those portions of an order that deny issues in a petition. Any petition for review shall be filed in the United States Court of Appeals for the appropriate circuit no later than July 8, 2024.

Dated: May 2, 2024.
David Garcia,
Director, Air and Radiation Division, Region 6.

[FR Doc. 2024-09985 Filed 5-7-24; 8:45 am]

BILLING CODE 6560-50-P